DEPARTMENT OF TRANSPORTATION

Federal Aviation Administration

Notice of Public Hearings on the Draft Environmental Impact Statement for the Potomac Consolidated Terminal Radar Approach Control (TRACON) Airspace Redesign

AGENCY: Federal Aviation Administration, DOT.

ACTION: Notice of public hearings for Draft Environmental Impact Statement.

SUMMARY: The Federal Aviation Administration (FAA) has released a Draft Environmental Impact Statement (DEIS) for redesign of the airspace in the Baltimore-Washington area (67 FR 9019). A summary of the DEIS can be viewed on the Internet at http://www.faa.gov/ats/potomac. This Notice provides information on Public Hearings that will be held on the DEIS.

DATES: The hearings will be held from 3 to 4:30 p.m. and 7 to 9 p.m. at the following locations:

—April 9 at the Crystal Gateway Marriott, 1700 Jefferson Davis Highway, Arlington, VA 22202, Tel: (703) 920-3230. The hotel is accessible from the Crystal City Metro Station through underground walkways. The hotel is located on S. Eads Street between 15th and 20th. A map and further directions may be obtained from http://www.marriott.com/epp/map.asp?MarshaCode=WASGW.

—April 10 at the Days Hotel and Conference Center, 2200 Centreville Road, Herndon, VA 20170, Tel: (703) 471-6700. The hotel is located on Centreville Road off Exit 10 (Herndon/Chantilly) from the Dulles Toll Road (Rt. 267). A map and further directions may be obtained from http://www.dullesdaysinn.com/location.html.

—April 11 at the Colony South Hotel and Conference Center, 7401 Surratts Road, Clinton, MD 20735, Tel: (301) 868-0315. The hotel is located on Route 5. To access it from I-95, take exit 7A to Route 5 (Branch Ave.) towards Waldorf. Stay on Route 5 for approx. 4.5 miles to the light at Surrats Road. Turn left onto Surratts Road and right into the first driveway. A map and further directions may be obtained from http://www.colonysouth.com/directions.html.

—April 23 at the Hilton, 620 Perry Parkway, Gaithersburg, MD 20877, Tel: (301) 977-8900. From I-270, take Exit 11 to Route 124 east, then right at the second light (Route 355 south) and right at the next light, onto Perry Parkway. The hotel is on the right after a roundabout. A map and further directions may be obtained from http://www.hilton.com/en/hi/hotels/dirctions.jhtmp?ctyhocn=GAIGHHF.

—April 25 at the BWI Airport Marriott, 1743 West Nursery Road, Baltimore, MD 21240, Tel: (410) 859-8300. Take I-95 to B/W Parkway (I-295) North to West Nursery Road (make a right turn off the exit ramp), hotel is one mile on left after the Courtyard by Marriott. A map and further directions may be obtained from http://www.marriotthotels.com/dpp/Map.asp?marshacode-BWIAP.

A separate meeting will be held from 1:30 to 3:30 p.m. primarily for Federal, State and local agency staff in accordance with NEPA coordination requirements. This meeting is also open to the public:

—April 24 at the Holiday Inn Capitol, 550 C Street, SW., Washington DC, 20024, Tel: (202) 479-4000. The hotel is close to the Air and Space Museum and accessible from the L'Enfant Plaza Metro stop. When exiting the Metro station, use the exit labeled 7th Street/Maryland Avenue/Smithsonian Museums. Come up the escalator and walk straight ahead half a block to 6th Street SW. Turn right on 6th Street and walk half a block to C Street SW. The Hotel in on the left, located on the corner of 6th & C Streets SW. Driving directions may be obtained from http://www.holidayinncapitol.com/direction.html.

SUPPLEMENTARY INFORMATION: Written comments on the DEIS will be accepted until May 23, 2002. Written comments may be sent to: FAA Potomac TRACON, Air Traffic 2400, Attention: Fred Bankert, 3699 Macintosh Drive, Warrenton, VA 20187. Oral or written comments may also be delivered at the public hearings addressed above.

If there is a demand and adequate interest from other areas that could be affected by the airspace redesign, additional meetings maybe scheduled. Additionally, for those unable to attend a meetings, written comments sent to the address shown above are invited.

FOR FURTHER INFORMATION CONTACT: Potomac Consolidated TRACON (800) 762-9531, E-mail: 9-AEA-PCT-Comments@faa.gov, Internet http://www.faa.gov/ats/potomac.

Dated: March 8, 2002 in Washington, DC.
Barbara Jo Cogliandro,
Air Traffic Manager, Potomac Consolidated TRACON.

[FR Doc. 02-6368 Filed 3-15-02; 8:45 am]

BILLING CODE 4910-13-M